DEPARTMENT OF HOUSING AND URBAN DEVELOPMENT

[Docket No. FR-5601-N-51]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert Moore, Air Force Real Property Agency, 143 Billy Mitchell Blvd., San Antonio, TX 78226, (210) 925-3047; ARMY: Ms. Veronica Rines, Department of Army, Office of the Chief of Staff for Installation Management, 600 Army Pentagon, Room 5A128, Washington, DC, 20310, (571) 256-8145; GSA: Mr. Flavio Peres, General Services Administration, Office of Real Property Utilization and Disposal, 1800 F Street NW., Room 7040 Washington, DC 20405, (202) 501-0084; NAVY: Mr. Steve Matteo, Department of the Navy, Asset Management Division, Naval Facilities Engineering Command, Washington Navy Yard, 1330 Patterson Ave. SW., Suite 1000, Washington, DC 20374, (202)-685-9426; (This is not toll-free numbers).

Dated: December 20, 2012.
Mark Johnston,
Deputy Assistant Secretary for Special Needs.

TITLE V, FEDERAL SURPLUS PROPERTY PROGRAM FEDERAL REGISTER REPORT FOR 12/28/2012

Suitable/Available Properties

Building

Nevada

Building 60

4755 Pasture Rd.

Fallon NV 89496

Landholding Agency: Navy

Property Number: 77201240007

Status: Unutilized

Comments: off-site removal only; 1,584 sf.; retail store; vacant for 1 month; repairs required; restricted area; contact Navy for info. re: accessibility/removal requirements

Wisconsin

13 Building

Ft. McCoy

Ft. McCoy WI 54656

Landholding Agency: Army

Property Number: 21201240020

Status: Unutilized

Directions: 716, 717, 738, 753, 754, 1248, 1249, 1250, 1251, 1616, 1617, 1738, 1739

Comments: CORRECTION: building 754 did not appear in the originally December 7, 2012 Federal Register publication; off-site removal only, sf. varies, fair conditions, asbestos, restricted area, contact Army for information on accessibility removal and details on a particular property

Wyoming

Signal Mountain Lodge Cabin

Grand Teton Nation Park

Moran WY 83013

Landholding Agency: GSA

Property Number: 54201240014

Status: Surplus

GSA Number: 7-I-WY-0475

Comments: off-site removal only; 1,830sf.; vacation cabin; moderate conditions; asbestos; access by appt. only

Unsuitable Properties

Building

FLORIDA

Building 11

NAS

Jacksonville FL

Landholding Agency: Navy

Property Number: 77201240009

Status: Unutilized

Comments: located on restricted naval air station; public access denied & no alternative method to gain access w/out compromising nat'l security

Reasons: Secured Area

Hawaii

5,100 SF Land

JBPHH

JBPHH HI 96860

Landholding Agency: Navy

Property Number: 77201240008

Status: Unutilized

Comments: restricted to military personnel only; public access denied & no alternative method to gain access w/out compromising nat'l security

Reasons: Secured Area

Kentucky

8 Buildings

Ft. Knox

Ft. Knox KY 40121

Landholding Agency: Army

Property Number: 21201240047

Status: Unutilized

Directions: 93, 430, 445, 1414, 2768, 2798, 4016, 5250

Comments: CORRECTION: Building 5250 did not appear in the originally December 7, 2012 Federal Register publication; located in secured area; public access denied & no alternative method to gain access w/out compromising nat'l security

Reasons: Secured Area

New Mexico

5 Buildings

Cannon AFB

Cannon NM 88103

Landholding Agency: Air Force

Property Number: 18201240031

Status: Unutilized

Directions: 381, 799, 2112, 2332, 258

Comments: CORRECTION: In error, bldg. 2382 was published in the December 14, 2012 Federal Register under this HUD property number; the correct bldg. number is 2332; located on AF controlled installation; restricted to authorized personnel only; public access denied & no alternative method to gain access w/out compromising nat'l security

Reasons: Secured Area

Tennessee

Building 750

South Fourth St.

Arnold AFB TN 37389

Landholding Agency: Air Force

Property Number: 18201240037

Status: Excess

Comments: located on secured area where public access denied & no alternative method to gain access w/out compromising nat'l security

Reasons: Secured Area

[FR Doc. 2012-31047 Filed 12-27-12; 8:45 am]

BILLING CODE 4210-67-P